DEPARTMENT OF LABOR

Employment and Training Administration

[TA-W-51,918]

Alstom T&D Industries, High Voltage Switchgear Division, Charleroi, PA; Notice of Negative Determination Regarding Application for Reconsideration

By application of August 26, 2003, a petitioner requested administrative reconsideration of the Department's negative determination regarding eligibility for workers and former workers of the subject firm to apply for Trade Adjustment Assistance (TAA). The denial notice was signed on August 12, 2003, and published in the Federal Register on September 2, 2003 (68 FR 52227).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Alstom T&D, Industries, High Voltage Switchgear Division, Charleroi, Pennsylvania was denied because the “contributed importantly” group eligibility requirement of section 222(3) of the Trade Act of 1974 was not met and production was not shifted abroad.

The worker who filed the reconsideration request stated that affiliated companies of Alstom T&D Industries in Mexico produce the same products as Alstom T&D Industries, High Voltage Switchgear Division, Charleroi, Pennsylvania. Consequently, a decline in production and employment at the subject facility is a result of increasing production in Mexico facilities.

Contact with a company official confirmed that Alstom International, a parent company of the subject firm, does indeed own a facility in Mexico. However, the company official specified that the products manufactured in Mexico are not like or directly competitive with those produced in Charleroi, Pennsylvania. Workers at the Mexico facility specialize in production of instrumentation transformers and circuit breakers for LIFE tanks, while workers at Alstom T&D, Industries, High Voltage Switchgear Division, Charleroi, Pennsylvania produce circuit breakers for DEAD tanks. Both facilities cover two completely different and unaffiliated markets. Thus, an increase in production at the facilities in Mexico has no impact on production and employment at the subject facility. The company official stated that there was no evidence of a shift from the subject facility to the Mexican affiliate or any U.S. imports resulting from this or any other foreign production and a decrease in production at Alstom T&D, Industries, High Voltage Switchgear Division, Charleroi, Pennsylvania is solemnly the result of the overall decrease of demand in the market.

Conclusion

After review of the application and investigative findings, I conclude that there has been no error or misinterpretation of the law or of the facts which would justify reconsideration of the Department of Labor's prior decision. Accordingly, the application is denied.

Signed at Washington, DC, this 31st day of October, 2003.
Elliott S. Kushner,
Certifying Officer, Division of Trade Adjustment Assistance.

[FR Doc. 03-29263 Filed 11-21-03; 8:45 am]

BILLING CODE 4510-30-P